DEPARTMENT OF COMMERCE

International Trade Administration

A-570-851

Certain Preserved Mushrooms from the People's Republic of China: Extension of Time Limit for Final Results of the Fifth Antidumping Duty Review

AGENCY: Import Administration, International Trade Administration, Department of Commerce.

EFFECTIVE DATE: May 2, 2005.

FOR FURTHER INFORMATION CONTACT: Amber Musser at (202) 482-1777, AD/CVD Enforcement, Office 9, Import Administration, International Trade Administration, U.S. Department of Commerce, 14th Street and Constitution Avenue, NW, Washington, DC, 20230.

SUPPLEMENTARY INFORMATION:

Background

On March 7, 2005, the Department of Commerce (“the Department”) published the preliminary results of the fifth administrative review of the antidumping duty order on certain preserved mushrooms from the People's Republic of China. See Certain Preserved Mushrooms from the People's Republic of China: Preliminary Results and Partial Rescission of Fifth Antidumping Duty Administrative Review, 70 FR 10965 (March 7, 2005) (“Preliminary Results”). The results of this administrative review are currently due no later than July 5, 2005.

Extension of Time Limit for Final Results of Review

Pursuant to section 751(a)(3)(A) of the Tariff Act of 1930, as amended (“the Act”), the Department shall make a final determination in an administrative review of an antidumping duty order within 120 days after the date on which the preliminary results are published. If it is not practicable to complete the review within the foregoing time, the administering authority may extend that 120-day period to 180 days. In this case, the Department finds that it is not practicable to complete the final results in the administrative review of certain preserved mushrooms from the PRC within the current time frame due to the need to analyze information found during verifications in March and April 2005.

Therefore, in accordance with sections 751(a)(3)(A) of the Act, the Department is extending the time for completion of the final results of this review until September 6, 2005, which is the next business day after 180 days from the date of the publication of the Preliminary Results. Additionally, the deadlines for submitting case briefs and rebuttal briefs are extended. The current deadline for case briefs is May 2, 2005, and the current deadline for rebuttal briefs is May 9, 2005. The Department is extending the deadline for case briefs until June 24, 2005, and for rebuttal briefs until July 1, 2005. A hearing will be scheduled after case briefs and rebuttal briefs have been received.

This notice is issued and published in accordance with Section 751(a)(3)(A) of the Act.

Dated: April 25, 2005.
Barbara E. Tillman,
Acting Deputy Assistant Secretary for Import Administration.

[FR Doc. E5-2093 Filed 4-29-05; 8:45 am]

BILLING CODE 3510-DS-S